DEPARTMENT OF TRANSPORTATION

Federal Aviation Administration

Eleventh Meeting: RTCA Special Committee 209: In Joint Session With EUROCAE WG-49: ATCRBS/Mode S Transponder MOPS Maintenance

AGENCY: Federal Aviation Administration (FAA), DOT.

ACTION: Notice of RTCA Special Committee 209: In Joint Session with EUROCAE WG-49 ATCRBS/Mode S Transponder MOPS Maintenance.

SUMMARY: The FAA is issuing this notice to advise the public of a meeting of RTCA Special Committee 209: In Joint Session with EUROCAE WG-49 ATCRBS/Mode S Transponder MOPS Maintenance.

DATES: The meeting will be held September 8-10, 2010 from 9 a.m.-5 p.m. EDT

ADDRESSES: The meeting will be held at the RTCA Headquarters, 1828 L Street, NW., Washington, DC, Location: MacIntosh-NBAA/Hilton-ATA Rooms, Host Contact: Hal Moses, RTCA, 202-833-9339, hmoses@rtca.org, Secretary Contact: Gary Furr 1-609-485-4254, gary.ctr.furr@faa.gov.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 209: In Joint Session with EUROCAE WG-49 ATCRBS/Mode S Transponder MOPS Maintenance meeting. The agenda will include:

• Opening Session (Host and Co-Chairs Welcome, Introductions and Remarks)

• Review and Approval of the Agenda (SC209-WP11-01)

• Review and Approval of the Minutes of Meeting #10 (SC209-WP11-02)

• Review of the Status of Open Action Items

• AI-10-11—Review of Documents for P5 Pulse Position Differences (WP11-03)

• AI-10-03—Issues Related to Zeroing Registers 0816 & 2016 (WP11-04)

• AI-10-02—Register 6016 Maximum Update Interval Changes (WP11-05)

• AI-10-01—Errata for Register 6016 for GPS Data Input (WP11-06)

• AI-10-09—Review of MOPS for Usage of the term “All-Call” (WP11-07)

• Discussion of Other Issues Related to Proposed Changes to DO-181D/ED-73C

• WP11-xx—Review

• Review of the Actual Change Documents for DO-181D and ED-73C

• WP11-xx—Proposed Draft of Change 1 to DO-181D

• WP11-xx—Proposed Draft of Change 1 to ED-73C

• Date, Place and Time of any Future Meetings

• Other Business

• WP11-xx

• Adjournment

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, August 13, 2010.
Kathy L. Hitt,
RTCA Advisory Committee.

[FR Doc. 2010-20541 Filed 8-18-10; 8:45 am]

BILLING CODE 4910-13-P